NATIONAL AERONAUTICS AND SPACE ADMINISTRATION

[Notice (09-022)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: March 11, 2009.

FOR FURTHER INFORMATION CONTACT: Kaprice L. Harris, Attorney Advisor, Glenn Research Center at Lewis Field, Code 500-118, Cleveland, OH 44135; telephone (216) 433-5754; fax (216) 433-6790.

NASA Case No. LEW-18261-1: A Software Platform for Post-Processing Waveform-Based NDE;

NASA Case No. LEW-18313-1: A Novel Nanoionics-Based Switch for Radiofrequency (RF) Applications;

NASA Case No. LEW-18205-1: Branched Rod-Coil Polyimide-Poly(ethylene oxide) (PEO) Copolymers that are Cured in the Solid State at Ambient Temperatures.

Dated: March 4, 2009.
Richard W. Sherman,
Deputy General Counsel.

[FR Doc. E9-5115 Filed 3-10-09; 8:45 am]

BILLING CODE 7510-13-P